ENVIRONMENTAL PROTECTION AGENCY

[OPP-2004-0131; FRL-7363-7]

Notice of Receipt of Requests To Voluntarily Cancel Certain Pesticide Registrations; Extension of Comment Period

AGENCY: Environmental Protection Agency (EPA).

ACTION: Notice; extension of public comment period.

SUMMARY: EPA issued a notice in the Federal Register of May 7, 2004, concerning receipt of requests by a registrant to voluntarily cancel certain pesticide registrations. This document is extending the public time period during which the registrant may withdraw the requests for 14 days, from June 7, 2004, to June 21, 2004.

DATES: Unless the registrant withdraws by June 21, 2004,the request for voluntary cancellation for EPA Registration number(s): 264-577, 264-576, and 264-580, orders will be issued canceling these registrations.

ADDRESSES: Registrants should submit such withdrawal in writing to the person listed under FOR FURTHER INFORMATION CONTACT.

FOR FURTHER INFORMATION CONTACT: Ann Sibold, Registration Division (7505C), Office of Pesticide Programs, Environmental Protection Agency, 1200 Pennsylvania Ave., NW., Washington, DC 20460-0001; telephone number: (703) 305-6502; e-mail address: sibold.ann@epa.gov.

SUPPLEMENTARY INFORMATION:

I. General Information

A. Does This Action Apply to Me?

The Agency included in the notice a list of those who may be potentially affected by this action. If you have questions regarding the applicability of this action to a particular entity, consult the person listed under FOR FURTHER INFORMATION CONTACT.

B. How Can I Get Copies of This Document and Other Related Information?

1. Docket. EPA has established an official public docket for this action under docket identification (ID) number OPP-2004-0131. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

II. What Action Is EPA Taking?

This document extends the comment period established in the Federal Register of May 7, 2004 (69 FR 25577) (FRL-7358-1), during which the registrant may withdraw the voluntary cancellation request. In that document, EPA issued a notice of receipt of request by a registrant to voluntarily cancel certain pesticide registrations. On May 20, 2004, EPA received a request from the USA Rice Federation for an extension of the time period to July 1, 2004, so that the USA Rice Federation may negotiate with the registrant, Bayer Crop Science, to withdraw its voluntary cancellation request. In light of the fact that the registrations will expire on July 1, 2004, the Agency will extend the comment period to June 21, 2004, not July 1, 2004. By extending to June 21, 2004, the Agency will be able to address timely received comments and requests for withdrawal before the expiration of the registrations on July 1, 2004. EPA is hereby extending the public comment period during which the registrant may withdraw the request to voluntarily cancel these pesticide registrations, which was set to end on June 7, 2004, to June 21, 2004.

III. What Is the Agency's Authority for Taking This Action?

Section 6(f)(1) of FIFRA provides that a registrant of a pesticide product may at any time request that any of its pesticide registrations be canceled. FIFRA further provides that, before acting on the request, EPA must publish a notice of receipt of any such request in the Federal Register. Section 6(f)(1) further provides that the Administrator shall provide for a 30-day period in which the public may comment. For minor crops, this period shall be 180 days, except that the registrant may waive the 180-day comment period. In this case, Bayer CropScience waived the 180-day comment period.

List of Subjects

Environmental protection, Pesticides and pests.

Dated: June 2, 2004.
Lois Rossi,
Director, Registration Division, Office of Pesticide Programs.

[FR Doc. 04-12917 Filed 6-7-04; 12:03 pm]

BILLING CODE 6560-50-S